DEPARTMENT OF ENERGY

Notice of Availability of Guidance and Application for Hydroelectric Production Incentives; Correction

AGENCY: Hydroelectric Incentives Program, Grid Deployment Office, Department of Energy.

ACTION: Notice of availability of guidance and open application period; correction.

SUMMARY: On March 22, 2023, the Department of Energy's Grid Deployment Office published a notice announcing the availability of guidance and open application period for the Hydroelectric Production Incentives in the Federal Register. This document makes a correction to that notice.

FOR FURTHER INFORMATION CONTACT: Questions may be addressed to Madden Sciubba, U.S. Department of Energy, 1000 Independence Ave. SW, Washington, DC 20585, (240) 798-1195 or by email at hydroelectricincentives@hq.doe.gov. Additional information can be found in the guidance posted at www.energy.gov/gdo/section-242-hydroelectric-production-incentive-program. Electronic communications are recommended for correspondence.

SUPPLEMENTARY INFORMATION:

Correction

On March 22, 2023, the Department of Energy's Grid Deployment Office (GDO) published a notice announcing the availability of guidance and open application period for the Section 242 Hydroelectric Production Incentives in the Federal Register. 88 FR 17202. It has come to GDO's attention that there is a typo included under the SUPPLEMENTARY INFORMATION section in the first sentence on page 17203, second column, first paragraph, relating to the date referenced as part of the discussion of an existing dam or conduit included in the second column.

The sentence is corrected to read as follows:

“Additionally, Congress defined an existing dam or conduit to mean any dam or conduit constructed and completed before November 15, 2021 and does not require any construction or enlargement of impoundment or diversion structures, other than repair or reconstruction, in connection with the installation of a turbine or other generating device.” (Emphasis added).

This typo does not alter the information provided in the guidance document nor does it alter the solicitation period as announced in the original notice. Please consult the guidance for all application requirements and properly submit all application materials to the Clean Energy Infrastructure Funding Opportunity Exchange, https://infrastructure-exchange.energy.gov, by no later than 5 p.m. ET, May 8, 2023.

Reason for Correction: The change corrects the date referenced in the discussion of the definition of an existing dam or conduit.¹

¹ See 42 U.S.C. 15881(b)(2).

Signing Authority

This document of the Department of Energy was signed on April 4, 2023, by Maria Duaime Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 5, 2023.
Treena V. Garrett,
Federal Register Liaison Officer, U.S. Department of Energy.

[FR Doc. 2023-07455 Filed 4-7-23; 8:45 am]

BILLING CODE 6450-01-P